OFFICE OF PERSONNEL MANAGEMENT

Excepted Service

AGENCY: Office of Personnel Management.

ACTION: Notice.

SUMMARY: This gives notice of positions placed or revoked under Schedules A and B, and placed under Schedule C in the excepted service, as required by Civil Service Rule VI, Exceptions from the Competitive Service.

FOR FURTHER INFORMATION CONTACT: Suzy Barker, Director Staffing Reinvention Office, Employment Service (202) 606-0830.

SUPPLEMENTARY INFORMATION: The Office of Personnel Management published its last monthly notice updating appointing authorities established or revoked under the Excepted Service provisions of 5 CFR 213 on February 15, 2000 (65 FR 7577). Individual authorities established or revoked under Schedules A and B and established under Schedule C between January 1, 2000, and January 31, 2000, appear in the listing below. Future notices will be published on the fourth Tuesday of each month, or as soon as possible thereafter. A consolidated listing of all authorities as of June 30 will also be published.

Schedule A

No Schedule A authorities were established or revoked during January 2000.

Schedule B

No Schedule B authorities were established or revoked during January 2000.

Schedule C

The following Schedule C authorities were established during January 2000.

Consumer Product Safety Commission

Supervisory Public Affairs Specialist to the Executive Director. Effective January 21, 2000.

Department of Agriculture

Confidential Assistant to the Assistant Secretary for Congressional Relations. Effective January 7, 2000.

Staff Assistant to the Director, Office of Communications. Effective January 13, 2000.

Confidential Assistant to the Administrator, Animal and Plant Health Inspection Service. Effective January 13, 2000.

Special Assistant to the Chief, Natural Resources Conservation Service. Effective January 14, 2000.

Special Assistant to the Administrator, Foreign Agricultural Service. Effective January 21, 2000.

Confidential Assistant to the Administrator, Risk Management Agency. Effective January 27, 2000.

Department of the Army (DOD)

Speechwriter to the Secretary of the Army. Effective January 3, 2000.

Department of Commerce

Special Assistant to the Under Secretary of Commerce for Technology. Effective January 3, 2000.

Deputy Director to the Director, Office of External Affairs. Effective January 7, 2000.

Deputy Director for External Affairs and Director of Scheduling to the Director, Office of External Affairs. Effective January 7, 2000.

Deputy Director, Office of Business Liaison to the Director, Office of Business Liaision. Effective January 10, 2000.

Department of Defense

Defense Fellow to the Special Assistant to the Secretary of Defense. Effective January 27, 2000.

Staff Assistant to the Special Assistant to the Secretary of Defense for White House Liaison. Effective January 28, 2000.

Department of Energy

Special Assistant to the Director, Office of Public Affairs. Effective January 6, 2000.

Public Affairs Specialist to the Director, Office of Public Affairs. Effective January 10, 2000.

Special Assistant to the Chief Financial Officer. Effective January 14, 2000.

Executive Officer to the Assistant Secretary, Office of Fossil Energy. Effective January 21, 2000.

Special Assistant to the Assistant Secretary for Defense Program. Effective January 21, 2000.

Special Assistant to the Director, Office of Science. Effective January 27, 2000.

Special Assistant for Regulatory Compliance to the Assistant Secretary for Enviromental Management. Effective January 27, 2000.

Department of Housing and Urban Development

Staff Assistant to the Advisor for Management Reform and Operation. Effective January 10, 2000.

Deputy Assistant Secretary for Community Empowerment to the Assistant Secretary for Community Planning and Development. Effective January 21, 2000.

Department of Justice

Special Assistant to the Director, Bureau of Justice Assistance, Office of Justice Programs. Effective January 3, 2000.

Department of Labor

Special Assistant to the Director of the Womens's Bureau. Effective January 13, 2000.

Special Assistant to the Assistant Secretary, Employment Standards Administration. Effective January 31, 2000.

Special Assistant for Public Affairs to the Assistant Secretary, Employment Standards Administration. Effective January 31, 2000.

Department of State

Legislative Management Officer to the Deputy Assistant Secretary, Bureau of Legislative Affairs. Effective January 27, 2000.

Department of Transportation

Senior Advisor to the Administrator, Research and Special Programs Administration, Office of the Administrator. Effective January 24, 2000.

Department of the Treasury

Senior Advisor to the Under Secretary (Enforcement). Effective January 12, 2000.

Special Assistant to the Assistant Secretary Legislative Affairs and Public Liaison. Effective January 19, 2000.

Special Assistant to the Assistant Secretary, Legislative Affairs and Public Liaison. Effective January 19, 2000.

Special Assistant to the Assistant Secretary, Legislative Affairs and Public Liaison. Effective January 21, 2000.

Export-Import Bank of the United States

Administrative Assistant to the Director, a Member of the Bank Board of Directors. Effective January 7, 2000.

Farm Credit Administration

Special Assistant to the Member, Farm Credit Administration. Effective January 13, 2000.

Federal Maritime Commission

Counsel to the Commissioner. Effective January 14, 2000.

Counsel to the Commissioner. Effective January 14, 2000.

Federal Trade Commission

Director, Congressional Relations to the Chairman. Effective January 14, 2000.

Office of National Drug Control Policy

Staff Assistant (Scheduler) to the Director, Office of National Drug Control Policy. Effective January 7, 2000.

Special Assistant to the Chief of Staff. Effective January 7, 2000.

President's Commission on White House Fellowships

Special Assistant to the Director, Presidential Commission on White House Fellowships. Effective January 7, 2000.

Authority: 5 U.S.C. 3301 and 3302; E.O. 10577, 3 CFR 1954-1958 Comp., P.218

Office of Personnel Management.
Janice R. Lachance,
Director.

[FR Doc. 00-7142 Filed 3-22-00; 8:45 am]

BILLING CODE 6325-01-P